DEPARTMENT OF DEFENSE

Department of the Air Force

[No. USAF-2006-0004]

Submission for OMB Review; Comment Request

ACTION: Notice.

The Department of Defense has submitted to OMB for clearance, the following proposal for collection of information under the provisions of the Paperwork Reduction Act (44 U.S.C. Chapter 35).

DATES: Consideration will be given to all comments received by July 30, 2007.

Title, Form, and OMB Number: Family Support Center Individual/Family Data Card, AF Form 2800; Family Support Center Interview and Follow Up Summary, AF Form 2801; Family Support Center Volunteer Data and Service Record, AF Form 2805; OMB Control Number 0701-0070.

Type of Request: Extension.

Number of Respondents: 10,000.

Responses per Respondent: 3.

Annual Responses: 30,000.

Average Burden per Response: 15 minutes.

Annual Burden Hours: 7,500.

Needs and Uses: This information collection is necessary to obtain demographic data about individuals and family members who utilize the services of the United States Air Force Family Support Center. It is also a mechanism for tracking the services provided in order to determine program usage and trends as well as for the purpose of program evaluation, service targeting, and future budgeting. It also provides demographic data on volunteers and tracks volunteer service.

Affected Public: Individuals or households.

Frequency: On Occasion.

Respondent's Obligation: Voluntary.

OMB Desk Officer: Ms. Hillary Jaffee.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including an personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: June 22, 2007.
Patricia L. Toppings,
Alternate OSD Federal Register Liaison Officer, Department of Defense.

[FR Doc. 07-3190 Filed 6-28-07; 8:45 am]

BILLING CODE 5001-06-M